DEPARTMENT OF EDUCATION

Office of Innovation and Improvement; Overview Information; Excellence in Economic Education Program; Notice Inviting Applications for New Awards for Fiscal Year (FY) 2005

Catalog of Federal Domestic Assistance (CFDA) Number: 84.215B.

DATES: Applications Available: January 31, 2005.

Deadline for Transmittal of Applications: March 23, 2005.

Deadline for Intergovernmental Review: May 24, 2005.

Eligible Applicants: Any national nonprofit educational organization that has as its primary purpose the improvement of the quality of student understanding of personal finance and economics through effective teaching of economics in grades kindergarten through grade 12 in the Nation's classrooms.

Applicants are required to submit evidence of their organization's eligibility.

Estimated Available Funds: $1,478,000 for budget period one, and $1,500,000 for budget periods two through five.

Number of Awards: 1.

Note: The Department is not bound by any estimates in this notice.

Project Period: Up to 60 months.

Budget Period: 12 months.

Full Text of Announcement

I. Funding Opportunity Description

Purpose of Program: This program promotes economic and financial literacy among all students in kindergarten through grade 12 through the award of one grant to a national nonprofit educational organization that has as its primary purpose the improvement of the quality of student understanding of personal finance and economics.

Priorities: This competition includes two absolute priorities and two invitational priorities that are explained in the following paragraphs.

In accordance with 34 CFR 75.105(b)(2)(iv), these priorities are from sections 5533(b), 5534(b), and 5535(b) of the Elementary and Secondary Education Act of 1965, as amended (ESEA) (20 U.S.C. 7267b-7267e).

Absolute Priorities: For FY 2005 these priorities are absolute priorities. Under 34 CFR 75.105(c)(3) we consider only applications that meet both of these priorities.

These priorities are:

Absolute Priority 1—Direct Activities

A project must indicate how it would use 25 percent of the funds available each year to do all of the following activities:

(a) Strengthen and expand the grantee's relationships with State and local personal finance, entrepreneurial, and economic education organizations.

(b) Support and promote training of teachers who teach a grade from kindergarten through grade 12 regarding economics, including the dissemination of information on effective practices and research findings regarding the teaching of economics.

(c) Support research on effective teaching practices and the development of assessment instruments to document student understanding of personal finance and economics.

(d) Develop and disseminate appropriate materials to foster economic literacy.

Absolute Priority 2—Subgrant Activities

A project must indicate how it would use 75 percent of the funds available each year to award subgrants both to (a) State educational agencies (SEAs) or local educational agencies (LEAs), and (b) State or local economic, personal finance, or entrepreneurial education organizations. (Definitions of SEAs and LEAs are found in section 9101(26) and (41) of the ESEA, as amended by NCLB (20 U.S.C. 7801(26) and (41)).

(a) Allowable Subgrantee Activities. Applications must indicate that these subgrants are to be used to pay for the Federal share of the cost of enabling the subgrantees to work in partnership with one or more eligible partners as described elsewhere in this notice, for one or more of the following purposes:

(1) Collaboratively establishing and conducting teacher training programs that use effective and innovative approaches to the teaching of economics, personal finance, and entrepreneurship. The teacher training programs must—(i) train teachers who teach a grade from kindergarten through grade 12; and (ii) encourage teachers from disciplines other than economics and financial literacy to participate in such teacher training programs, if the training will promote the economic and financial literacy of those teachers' students.

(2) Providing resources to school districts that desire to incorporate economics and personal finance into the curricula of the schools in those districts.

(3) Conducting evaluations of the impact of economic and financial literacy education on students.

(4) Conducting economic and financial literacy education research.

(5) Creating and conducting school-based student activities to promote consumer, economic, and personal finance education (such as saving, investing, and entrepreneurial education) and to encourage awareness and student academic achievement in economics.

(6) Encouraging replication of best practices to promote economic and financial literacy.

(b) Eligible partners for subgrantees under Absolute Priority 2. Applications must indicate that subgrants will be made to an eligible subgrantee to work in partnership with one or more of the following entities:

(1) A private-sector entity.

(2) An SEA.

(3) An LEA.

(4) An institution of higher education.

(5) An organization promoting economic development.

(6) An organization promoting educational excellence.

(7) An organization promoting personal finance or entrepreneurial education.

(c) Subgrant application process under Absolute Priority 2. (1) Applications must describe the subgrant process the grantee will conduct prior to awarding subgrants.

(2) Applications must provide that the grantee will invite the following types of individuals to review all applications for subgrants and to make recommendations to the grantee on the approval of the applications:

(A) Leaders in the fields of economics and education.

(B) Other individuals as the grantee determines to be necessary, especially members of the State and local business, banking, and finance communities.

In addition to the two absolute priorities, we are particularly interested in applications that address the following invitational priorities.

Invitational Priorities: For FY 2005 these priorities are invitational priorities. Under 34 CFR 75.105(c)(1) we do not give an application that meets one or both of these invitational priorities a competitive or absolute preference over other applications.

These priorities are:

Invitational Priority 1—Involvement of Business Community

The grantee and subgrantees are strongly encouraged to—

(a) Include interactions with the local business community to the fullest extent possible to reinforce the connection between economic and financial literacy and economic development; and

(b) Work with private businesses to obtain matching contributions for Federal funds and assist subgrantees in working toward self-sufficiency.

Invitational Priority 2—Scientifically Based Evaluation

The grantee and subgrantees are strongly encouraged to use scientifically based research as defined by the No Child Left Behind Act (20 U.S.C. 7801(37)) for the research and evaluation activities listed below that are required under the Absolute Priorities in this notice. Using scientifically based research for these activities will allow the grantee to provide the most trustworthy type of information necessary to meet the Performance Measures requirement for this program listed later in this notice. The activities are:

(a) For research on effective teaching practices and the development of assessment instruments to document student understanding of personal finance and economics;

(b) To conduct economic and financial literacy education research; and

(c) To conduct evaluations of the impact of economic and financial literacy education on students.

Program Authority: 20 U.S.C. 7267.

Applicable Regulations: The Education Department General Administrative Regulations (EDGAR) in 34 CFR parts 74, 75, 77, 79, 80, 81, 82, 84, 85, 86, 97, 98, and 99.

II. Award Information

Type of Award: Discretionary grant.

Estimated Available Funds: $1,478,000 for budget period one, and $1,500,000 for budget periods two through five.

Number of Awards: 1.

Note: The Department is not bound by any estimates in this notice.

Project Period: Up to 60 months.

Budget Period: 12 months.

III. Eligibility Information

1. Eligible Applicants: Any national nonprofit educational organization that has as its primary purpose the improvement of the quality of student understanding of personal finance and economics through effective teaching of economics in grades Kindergarten through grade 12 in the Nation's classrooms.

Applicants are required to submit evidence of their organization's eligibility.

2. Cost Sharing or Matching: Subgrant Activities. The recipients of each subgrant are required to match the Federal grant funds with an equal amount of non-Federal funding. The Federal share of each subgrant will be fifty (50) percent of the cost of the funded activities. The recipient of the subgrant must pay the other fifty percent in cash or in kind. In kind payment, including plant, equipment, or services, must be fairly evaluated. (20 U.S.C. 7267e(a) and (b)).

Supplement not supplant. Funds provided through this grant must be used to supplement, and not supplant, other Federal, State, and local funds expended to support activities that fulfill the purpose of this program. (20 U.S.C. 7267f).

IV. Application and Submission Information

1. Address to Request Application Package: Carolyn J. Warren, U.S. Department of Education, 400 Maryland Avenue, SW., room 4W209, Washington, DC 20202-5900. Telephone: (202) 205-5443 or by e-mail: carolyn.warren@ed.gov.

If you use a telecommunications device for the deaf (TDD), you may call the Federal Relay Service (FRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package for this competition.

Page Limit: The application narrative is where you, the applicant, address the selection criteria that reviewers use to evaluate your application. All of the information addressing the selection criteria and the priorities must be included in the narrative section of the application. It is strongly suggested that you limit the narrative of your application to the equivalent of no more than 25 pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The suggested page limit does not apply to the cover sheet; the budget section, including the narrative budget justification; the assurances and certifications; or the one-page abstract, the resumes, the bibliography, the evidence of eligibility, or the letters of support.

3. Submission Dates and Times: Applications Available: January 31, 2005.

Deadline for Transmittal of Applications: March 23, 2005.

Applications for grants under this competition must be submitted electronically using the Grants.gov Apply site (Grants.gov). For information (including dates and times) about how to submit your application electronically or by mail or hand delivery if you qualify for an exception to the electronic submission requirement, please refer to section IV.6. Other Submission Requirements in this notice.

We do not consider an application that does not comply with the deadline requirements.

Deadline for Intergovernmental Review: May 24, 2005.

4. Intergovernmental Review: This competition is subject to Executive Order 12372 and the regulations in 34 CFR part 79. Information about Intergovernmental Review of Federal Programs under Executive Order 12372 is in the application package for this competition.

5. Funding Restrictions: Twenty-five (25) percent of the grant funds must be used for Direct Activities as described in Absolute Priority 1. (20 U.S.C. 7267b(b)(1)).

Seventy-five (75) percent of the grant funds must be used for Subgrant Activities as described in Absolute Priority 2. (20 U.S.C. 7267b(b)(2)).

The grantee and each subgrantee may use not more than five (5) percent of their grant funds for administrative costs. (20 U.S.C. 7267d(a)).

We reference regulations outlining other funding restrictions in the Applicable Regulations section of this notice.

6. Other Submission Requirements: Applications for grants under this competition must be submitted electronically unless you qualify for an exception to this requirement in accordance with the instructions in this section.

a. Electronic Submission of Applications. Applications for grants under the Excellence in Economic Education Program—CFDA Number 84.215B must be submitted electronically using the Grants.gov Apply site. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for Excellence in Economic Education Program at: http://www.grants.gov. You must search for the downloadable application package for this program by the CFDA number. Do not include the CFDA number's alpha suffix in your search.

Please note the following:

• When you enter the Grants.gov site, you will find information about submitting an application electronically through the site, as well as the hours of operation.

• Applications received by Grants.gov are time and date stamped. Your application must be fully uploaded and submitted with a date/time received by the Grants.gov system no later than 4:30 p.m., Washington, DC time, on the application deadline date. We will not consider your application if it was received by the Grants.gov system later than 4:30 p.m. on the application deadline date. When we retrieve your application from Grants.gov, we will notify you if we are rejecting your application because it was submitted after 4:30 p.m. on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this program [competition] to ensure that your application is submitted timely to the Grants.gov system.

• To use Grants.gov, you, as the applicant, must have a D-U-N-S Number and register in the Central Contractor Registry (CCR). You should allow a minimum of five business days to complete the CCR registration.

• You will not receive additional point value because you submit your application in electronic format, nor will we penalize you if you qualify for an exception to the electronic submission requirement, as described elsewhere in this section, and submit your application in paper format.

• You must submit all documents electronically, including all information typically included on the Application for Federal Education Assistance (ED 424), Budget Information—Non-Construction Programs (ED 524), and all necessary assurances and certifications. Any narrative sections of your application should be attached as files in a .DOC (document), .RTF (rich text), or .PDF (Portable Document) format.

• Your electronic application must comply with any page limit requirements described in this notice.

• After you electronically submit your application, you will receive an automatic acknowledgement from Grants.gov that contains a Grants.gov tracking number. The Department will retrieve your application from Grants.gov and send you a second confirmation by e-mail that will include a PR/Award number (an ED-specified identifying number unique to your application).

• We may request that you provide us original signatures on forms at a later date.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Carolyn J. Warren, U.S. Department of Education, 400 Maryland Avenue, SW., room 4W209, Washington, DC 20202-5900. FAX: (202) 205-5631.

Your paper application must be submitted in accordance with the mail or hand delivery instructions described in this notice.

b. Submission of Paper Applications by Mail. If you qualify for an exception to the electronic submission requirement, you may mail (through the U.S. Postal Service or a commercial carrier), your application to the Department. You must mail the original and two copies of your application, on or before the application deadline date, to the Department at the applicable following address:

By mail through the U.S. Postal Service: U.S. Department of Education, Application Control Center, Attention: (CFDA Number 84.215B), 400 Maryland Avenue, SW., Washington, DC 20202-4260; or

By mail through a commercial carrier: U.S. Department of Education, Application Control Center—Stop 4260, Attention: (CFDA Number 84.215B), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you qualify for an exception to the electronic submission requirement, you (or a courier service) may deliver your paper application to the Department by hand. You must deliver the original and two copies of your application by hand, on or before the application deadline date, to the Department at the following address: U.S. Department of Education, Application Control Center, Attention: (CFDA Number 84.215B), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of the Application for Federal Education Assistance (ED 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from EDGAR, 34 CFR 75.210, as follows:

1. Quality of the Project Design—20 points. In determining the quality of the design of the proposed project, the Secretary considers the extent to which the proposed project represents an exceptional approach to the priorities established for the competition.

2. Quality of Project Services—30 points. (a) In determining the quality of the services to be provided by the proposed project, the Secretary considers the quality and sufficiency of strategies for ensuring equal access and treatment for eligible project participants who are members of groups that have traditionally been underrepresented based on race, color, national origin, gender, age, or disability.

(b) In addition, the Secretary considers the following factors:

(i) The extent to which the training or professional development services to be provided by the proposed project are of sufficient quality, intensity, and duration to lead to improvements in practice among the recipients of those services.

(ii) The likelihood that the services to be provided by the proposed project will lead to improvements in the achievement of students as measured against rigorous academic standards.

(iii) The extent to which the services to be provided by the proposed project involve the collaboration of appropriate partners for maximizing the effectiveness of project services.

3. Quality of the Management Plan—20 points. In determining the quality of the management plan for the proposed project, the Secretary considers the adequacy of the management plan to achieve the objectives of the proposed project on time and within budget, including clearly defined responsibilities, timelines, and milestones for accomplishing project tasks.

4. Quality of Project Personnel—10 points. (a) In determining the quality of project personnel, the Secretary considers the extent to which the applicant encourages applications for employment from persons who are members of groups that have traditionally been underrepresented based on race, color, national origin, gender, age, or disability.

(b) In addition, the Secretary considers the following factors:

(i) The qualifications, including relevant training and experience, of the project director.

(ii) The qualifications, including relevant training and experience, of key project personnel.

5. Quality of Project Evaluation—20 points. In determining the quality of the evaluation, the Secretary considers the following factors:

(a) The extent to which the methods of evaluation include the use of objective performance measures that are clearly related to the intended outcomes of the project and will produce quantitative and qualitative data to the extent possible.

(b) The extent to which the evaluation will provide guidance about effective strategies suitable for replication or testing in other settings.

Note: The Department notes that the grantee can, as authorized by section 5533(b)(2)(C) of the ESEA, award subgrants to conduct evaluations and to collect the information needed for implementation of the performance measure discussed elsewhere in this notice.

Factors Applicants May Wish to Consider in Developing an Evaluation Plan. A strong evaluation plan should be included in the application narrative and should be used, as appropriate, to shape the development of the project from the beginning of the grant period. The plan should include benchmarks to monitor progress toward specific project objectives and also outcome measures to assess the impact on teaching and learning or other important outcomes for project participants. More specifically, the plan should, where possible, identify the individual and/or organization that has agreed to serve as evaluator for the project and describe the qualifications of that evaluator. The plan should describe the evaluation design, indicating:

(1) What types of data will be collected.

(2) When various types of data will be collected.

(3) What methods will be used.

(4) What instruments will be developed and when.

(5) How the data will be analyzed.

(6) When reports of results and outcomes will be available.

(7) How the applicant will use the information collected through the evaluation to monitor progress of the funded project and to provide accountability information both about success at the initial site and effective strategies for replication in other settings. Applicants are encouraged to devote an appropriate level of resources to project evaluation.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: The percentage of students of teachers trained under the grant project that demonstrate an improved understanding of personal finance and economics as compared to similar students whose teachers have not had the training provided by this project. The grantee under this program will be expected to collect and report these data to the Department, and applicants are strongly encouraged to design their proposed project evaluations around this performance measure.

VII. Agency Contact

FOR FURTHER INFORMATION CONTACT: Carolyn J. Warren, U.S. Department of Education, 400 Maryland Avenue, SW., room 4W209, Washington, DC 20202-5900. Telephone: (202) 205-5443 or by e-mail: carolyn.warren@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: January 25, 2005.
Nina Shokraii Rees,
Assistant Deputy Secretary for Innovation and Improvement.

[FR Doc. 05-1650 Filed 1-27-05; 8:45 am]

BILLING CODE 4000-01-P